DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Annual Survey of Manufactures.

OMB Control Number: 0607-0449.

Form Number(s): MA-10000(L), MA-10000(S), NC-99530.

Type of Request: Revision of a currently approved collection.

Number of Respondents: 68.000.

Average Hours per Response: 2 hours and 32 minutes.

Burden Hours: 172,540.

Needs and Uses: The Census Bureau has conducted the Annual Survey of Manufactures (ASM) since 1949 to provide key measures of manufacturing activity during intercensal periods. In census years ending in “2” and “7,” we mail and collect the ASM as part of the Economic Census covering the Manufacturing Sector.

The ASM statistics are based on a survey that includes both mail and nonmail components. The mail portion of the survey consists of a probability sample that will be redesigned for the 2014 ASM using a methodology similar to the one that was used for the 2009 ASM. However, the industry strata for the 2014 ASM sample will be based on the 2012 North American Industry Classification System (NAICS), which combines many of the six-digit codes in the Manufacturing Sector. For the 2009 ASM, approximately 51,000 manufacturing establishments were selected from a frame of approximately 117,000 establishments. The frame contained all manufacturing establishments of multiunit companies (companies with operations at more than one location) and the largest single-location manufacturing companies within each industry. We expect the number of establishments in the 2014 ASM sample to be about the same as the number in the 2009 ASM sample. The 2009 ASM nonmail component contained approximately 211,000 small and medium-sized single-location companies. No data are collected from companies in the nonmail component. Data are imputed based on models that incorporate the administrative records of the Internal Revenue Service (IRS), the Social Security Administration (SSA), and the Bureau of Labor Statistics (BLS). Though the nonmail companies account for nearly two-thirds of the universe, they account for less than 7 percent of the manufacturing output.

The Census Bureau plans to revise the information collected in several areas of the MA-10000 (L). The MA-10000 (L) is the only form the Census Bureau plans to revise. The first revision is to the inventory section of the form, which covers items 9, 10 and 11 of the MA-10000 (L). The primary objective of the revision to the inventory section is to improve reporting and to avoid confusion for respondents that do not use the Last-In, First-Out (LIFO) method of valuation for inventories. In previous reporting cycles, reporting on these items were filled with errors that revolved around non-LIFO respondents reporting data in the LIFO-related items due to misunderstanding what was being requested. After research, it was determined that grouping all of the LIFO-related items together and moving them to the end of the inventory section will greatly decrease confusion for the large majority of respondents that do not use the LIFO valuation method. The second revision is to remove the data collected for depreciation, which is item 16B of the MA-10000 (L). The removal of item 16B will simplify what respondents are required to report and will remove an item that does not have the supplemental variables that it needs for editing and imputation.

This survey is an integral part of the Government's statistical program. Its results provide a factual background for decision making by the executive and legislative branches of the Federal Government. Federal agencies use the annual survey's input and output data as benchmarks for their statistical programs, including the Federal Reserve Board's Index of Industrial Production and the Bureau of Economic Analysis' (BEA) estimates of the gross domestic product. The data also provide the Department of Energy with primary information on the use of energy by the manufacturing sector to produce manufactured products. These data also are used as benchmark data for the Manufacturing Energy Consumption Survey, which is conducted for the Department of Energy by the Census Bureau. The Department of Commerce uses the exports of manufactured products data to measure the importance of exports to the manufacturing economy of each state. Within the Census Bureau, the ASM data are used to benchmark and reconcile monthly and quarterly data on manufacturing production and inventories.

The ASM is the only source of complete establishment statistics for the programs mentioned above.

The ASM furnishes up-to-date estimates of employment and payrolls, hours and wages of production workers, value added by manufacture, cost of materials, value of shipments by class of product, inventories, cost of employer's fringe benefits, operating expenses, and expenditures for new and used plant and equipment. The survey provides data for most of these items at the two- through six-digit NAICS levels. We also provide geographic data by state at a more aggregated industry level.

The survey also provides valuable information to private companies, research organizations, and trade associations. Industry makes extensive use of the annual figures on product class shipments at the U.S. level in its market analysis, product planning, and investment planning. State development/planning agencies rely on the survey as a major source of comprehensive economic data for policymaking, planning, and administration.

The Ownership or Control forms (NC-99530) will be used to update the Business Register, the basic input to the sampling frame for many of our current surveys. This enables us to update establishments in the Census Bureau's Business Register that are incorrectly identified as being single-establishment firms.

Affected Public: Business or other for profit.

Frequency: Annually.

Respondent's Obligation: Mandatory.

Legal Authority: Title 13, United States Code, sections 131, 182, 224, and 225.

This information collection request may be viewed at www.reginfo.gov. Follow the instructions to view Department of Commerce collections currently under review by OMB.

Written comments and recommendations for the proposed information collection should be sent within 30 days of publication of this notice to OIRA_Submission@omb.eop.gov or fax to (202) 395-5806.

Dated: March 11, 2015.
Glenna Mickelson,
Management Analyst, Office of the Chief Information Officer.

[FR Doc. 2015-05910 Filed 3-13-15; 8:45 am]

BILLING CODE 3510-07-P